FEDERAL TRADE COMMISSION

16 CFR Part 305

Rule Concerning Disclosures Regarding Energy Consumption and Water Use of Certain Home Appliances and Other Products Required Under the Energy Policy and Conservation Act (“Appliance Labeling Rule”)

AGENCY: Federal Trade Commission.

ACTION: Final rule.

SUMMARY: The Federal Trade Commission (“Commission”) amends its Appliance Labeling Rule (“Rule”) by publishing minor, technical changes to the requirements for EnergyGuide labels for dishwashers to conform the labels to a new test procedure published by the Department of Energy (“DOE”) on August 29, 2003 (68 FR 51887).

EFFECTIVE DATE: The amendments become effective on February 25, 2004.

FOR FURTHER INFORMATION CONTACT: Hampton Newsome, Attorney, Division of Enforcement, Federal Trade Commission, Washington, DC 20580 (202) 326-2889.

SUPPLEMENTARY INFORMATION: The Rule was issued by the Commission in 1979, 44 FR 66466 (Nov. 19, 1979), in response to a directive in the Energy Policy and Conservation Act of 1975 (“EPCA”).¹ The Rule covers several categories of major household appliances including dishwashers.

¹ 42 U.S.C. 6294. The statute also requires the DOE to develop test procedures that measure how much energy the appliances use, and to determine the representative average cost a consumer pays for the different types of energy available.

The Rule requires manufacturers of all covered appliances to disclose specific energy consumption or efficiency information (derived from the DOE test procedures) at the point of sale in the form of an “EnergyGuide” label and in catalogs. The Rule requires manufacturers to include, on labels and fact sheets, an energy consumption or efficiency figure and a “range of comparability.” This range shows the highest and lowest energy consumption or efficiencies for all comparable appliance models so consumers can compare the energy consumption or efficiency of other models (perhaps competing brands) similar to the labeled model. The Rule also requires manufacturers to include, on labels for some products, a secondary energy usage disclosure in the form of an estimated annual operating cost based on a specified DOE national average cost for the fuel the appliance uses.

I. Recent DOE Test Procedure Change

On August 29, 2003, DOE published amendments to the test procedure manufacturers must use to determine the energy use of their dishwashers (68 FR 51887). The DOE amendments provide a new test procedure for testing the energy consumption of soil-sensing models, requires that manufacturers include the measurement of standby power consumption in cost and energy use for all dishwashers, and add new specifications for instrumentation requirements. Manufacturers may begin using this amended test procedure on September 29, 2003 and must use it for energy representations by February 25, 2004.² The amended DOE test procedure also changes the number of annual cycles used to estimate the energy consumption of a dishwasher in one year. The amendments reduce that number from 264 to 215 cycles per year (correlating to about 4 washloads per week).

² Under EPCA, all energy use representations (including information on the EnergyGuide labels) must reflect the amended test procedure beginning 180 days after DOE prescribes the change in the procedure (i.e., the date the rule is published in the Federal Register). 42 U.S.C. 6293(c).

As a result of this change, the Commission must amend the required explanatory information on the EnergyGuide labels for dishwashers. Currently, section 305.11(a)(5)(i)(H)(2) of the Rule requires dishwasher labels to state “five washloads a week” as a basis for the energy use and annual operating cost information on the label. The Commission is amending that language to read “four washloads a week” to reflect the new 215 cycles per year figure required by the amended test procedure. Pursuant to 42 U.S.C. 6293(c)(2), all dishwasher labels for units produced after February 25, 2004 (i.e., 180 days after publication of DOE's amendment) must reflect the results of the new DOE test procedure. Accordingly, the effective date of the Commission's amendment is February 25, 2004. Manufacturers, however, may begin using the reference to four washloads per week when they start using the results from the amended test procedure on their labels.³ This will ensure that the reference to washloads on the label is consistent with the test used by the manufacturer.

³ See 68 FR at 51888. On August 11, 2003 (68 FR 47449), the Commission published new ranges of comparability for standard capacity dishwashers. Manufacturers must use these ranges on labels by November 10, 2003. Under 42 U.S.C. 6296(c), the “Commission may not require labels be changed to reflect the revised tables of ranges more often than annually.” Accordingly, the Commission will not be able to require new ranges to reflect the new test procedure results until November 10, 2004.

II. Administrative Procedure Act

The amendments published in this notice involve minor, technical conforming changes to the labeling requirements in the Rule. The minor or conforming amendments require changes to the EnergyGuide label so that the information is accurate and reflects recent DOE changes to the test procedures for these products. Accordingly, the Commission finds for good cause that public comment for these technical, procedural amendments is impractical and unnecessary (5 U.S.C. 553(b)(A)(B) and (d)).

III. Regulatory Flexibility Act

The provisions of the Regulatory Flexibility Act relating to a Regulatory Flexibility Act analysis (5 U.S.C. 603-604) are not applicable to this proceeding because the amendments do not impose any new obligations on entities regulated by the Appliance Labeling Rule. These technical amendments merely provide a routine change to the range information required on EnergyGuide labels. Thus, the amendments will not have a “significant economic impact on a substantial number of small entities.” 5 U.S.C. 605. The Commission has concluded, therefore, that a regulatory flexibility analysis is not necessary, and certifies, under Section 605 of the Regulatory Flexibility Act (5 U.S.C. 605(b)), that the amendments announced today will not have a significant economic impact on a substantial number of small entities.

IV. Paperwork Reduction Act

In a June 13, 1988 notice (53 FR 22106), the Commission stated that the Rule contains disclosure and reporting requirements that constitute “information collection requirements” as defined by 5 CFR 1320.7(c), the regulation that implements the Paperwork Reduction Act.⁴ The Commission noted that the Rule had been reviewed and approved in 1984 by the Office of Management and Budget (“OMB”) and assigned OMB Control No. 3084-0068. OMB has reviewed the Rule and extended its approval for its recordkeeping and reporting requirements until September 30, 2004. The amendments now being adopted do not change the substance or frequency of the recordkeeping, disclosure, or reporting requirements and, therefore, do not require further OMB clearance.

⁴ 44 U.S.C. 3501-3520.

List of Subjects in 16 CFR Part 305

Advertising, Energy conservation, Household appliances, Labeling, Reporting and recordkeeping requirements.

Accordingly, 16 CFR Part 305 is amended as follows:

PART 305—[AMENDED]

1. The authority citation for Part 305 continues to read as follows:

Authority: 42 U.S.C. 6294.

2. Section 305.11(a)(5)(i)(H)(2) is amended to read as follows:

§ 305.11 Labeling for covered products.

* * * * *

(a) * * *

(5) * * *

(i) * * *

(H) * * *

(2) For clothes washers and dishwashers, the statement will read as follows (fill in the blanks with the appropriate appliance name, the operating cost, the number of loads per week, the year, and the energy cost figures): [Clothes Washers, or Dishwashers] using more energy cost more to operate. This model's estimated yearly operating cost is: [Electric cost figure will be boxed] when used with an electric water heater [Gas cost figure will be boxed] when used with a natural gas water heater. Based on [4 washloads a week for dishwashers, or 8 washloads a week for clothes washers], and a [Year] U.S. Government national average cost of $_ per kWh for electricity and $_ per therm for natural gas. Your actual operating cost will vary depending on your local utility rates and your use of the product.

* * * * *

3. Appendix L is amended by revising Sample Label 4 of part 305 to read as follows:

By direction of the Commission.
Donald S. Clark,
Secretary.

[FR Doc. 03-24570 Filed 9-26-03; 8:45 am]

BILLING CODE 6750-01-P